ENVIRONMENTAL PROTECTION AGENCY

[FRL-9660-6]

Proposed CERCLA Administrative Cost Recovery Settlement; Estate of Benjamin C. Schilberg, Cadlerock Properties Site, Ashford and Willington, CT

AGENCY: Environmental Protection Agency.

ACTION: Notice of proposed settlement; request for public comment.

SUMMARY: In accordance with Section 122(i) of the Comprehensive Environmental Response Compensation, and Liability Act, as amended (“CERCLA”), 42 U.S.C. 9622(i), notice is hereby given of a proposed administrative settlement for recovery of past costs concerning the Cadlerock Properties Superfund Site in Ashford and Willington, Connecticut with the following settling party: Estate of Benjamin C. Schilberg. The settlement requires the settling party to pay $170,000 to the Hazardous Substance Superfund. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at 5 Post Office Square, Boston, MA 02109-3912.

DATES: Comments must be submitted by May 17, 2012 of this notice.

ADDRESSES: Comments should be addressed to Barbara Gutierrez, Attorney-Advisor, U.S. Environmental Protection Agency, 1200 Pennsylvania Avenue NW. (2272A), Washington, DC 20460 (Telephone No. 202-562-4292) and should refer to: In re: Cadlerock Properties Superfund Site, U.S. EPA Docket No. 01-2012-0017.

FOR FURTHER INFORMATION CONTACT: A copy of the proposed settlement may be obtained from Barbara Gutierrez, Attorney-Advisor, U.S. Environmental Protection Agency, 1200 Pennsylvania Avenue NW. (2272A), Washington, DC 20460 (Telephone No. 202-562-4292; Email Gutierrez.barbara@epa.gov).

Dated: April 10, 2012.
James T. Owens, III,
Director, Office of Site Remediation and Restoration.

[FR Doc. 2012-9233 Filed 4-16-12; 8:45 am]

BILLING CODE 6560-50-P